DEPARTMENT OF HOUSING AND URBAN DEVELOPMENT

[Docket No. FR-5280-N-17]

Federal Property Suitable as Facilities To Assist the Homeless

AGENCY: Office of the Assistant Secretary for Community Planning and Development, HUD.

ACTION: Notice.

SUMMARY: This Notice identifies unutilized, underutilized, excess, and surplus Federal property reviewed by HUD for suitability for possible use to assist the homeless.

FOR FURTHER INFORMATION CONTACT: Kathy Ezzell, Department of Housing and Urban Development, 451 Seventh Street, SW., Room 7266, Washington, DC 20410; telephone (202) 708-1234; TTY number for the hearing- and speech-impaired (202) 708-2565 (these telephone numbers are not toll-free), or call the toll-free Title V information line at 800-927-7588.

SUPPLEMENTARY INFORMATION: In accordance with 24 CFR part 581 and section 501 of the Stewart B. McKinney Homeless Assistance Act (42 U.S.C. 11411), as amended, HUD is publishing this Notice to identify Federal buildings and other real property that HUD has reviewed for suitability for use to assist the homeless. The properties were reviewed using information provided to HUD by Federal landholding agencies regarding unutilized and underutilized buildings and real property controlled by such agencies or by GSA regarding its inventory of excess or surplus Federal property. This Notice is also published in order to comply with the December 12, 1988 Court Order in National Coalition for the Homeless v. Veterans Administration, No. 88-2503-OG (D.D.C.).

Properties reviewed are listed in this Notice according to the following categories: Suitable/available, suitable/unavailable, suitable/to be excess, and unsuitable. The properties listed in the three suitable categories have been reviewed by the landholding agencies, and each agency has transmitted to HUD: (1) Its intention to make the property available for use to assist the homeless, (2) its intention to declare the property excess to the agency's needs, or (3) a statement of the reasons that the property cannot be declared excess or made available for use as facilities to assist the homeless.

Properties listed as suitable/available will be available exclusively for homeless use for a period of 60 days from the date of this Notice. Where property is described as for “off-site use only” recipients of the property will be required to relocate the building to their own site at their own expense. Homeless assistance providers interested in any such property should send a written expression of interest to HHS, addressed to Theresa Rita, Division of Property Management, Program Support Center, HHS, room 5B-17, 5600 Fishers Lane, Rockville, MD 20857; (301) 443-2265. (This is not a toll-free number.) HHS will mail to the interested provider an application packet, which will include instructions for completing the application. In order to maximize the opportunity to utilize a suitable property, providers should submit their written expressions of interest as soon as possible. For complete details concerning the processing of applications, the reader is encouraged to refer to the interim rule governing this program, 24 CFR part 581.

For properties listed as suitable/to be excess, that property may, if subsequently accepted as excess by GSA, be made available for use by the homeless in accordance with applicable law, subject to screening for other Federal use. At the appropriate time, HUD will publish the property in a Notice showing it as either suitable/available or suitable/unavailable.

For properties listed as suitable/unavailable, the landholding agency has decided that the property cannot be declared excess or made available for use to assist the homeless, and the property will not be available.

Properties listed as unsuitable will not be made available for any other purpose for 20 days from the date of this Notice. Homeless assistance providers interested in a review by HUD of the determination of unsuitability should call the toll free information line at 1-800-927-7588 for detailed instructions or write a letter to Mark Johnston at the address listed at the beginning of this Notice. Included in the request for review should be the property address (including zip code), the date of publication in the Federal Register, the landholding agency, and the property number.

For more information regarding particular properties identified in this Notice (i.e., acreage, floor plan, existing sanitary facilities, exact street address), providers should contact the appropriate landholding agencies at the following addresses: Air Force: Mr. Robert Moore, Air Force Real Property Agency, 143 Billy Mitchell Blvd., Suite 1, San Antonio, TX 78226; (210) 925-3047; Army: Ms. Veronica Rines, Department of the Army, Office of the Assistant Chief of Staff for Installation Management, DAIM-ZS, Room 8536, 2511 Jefferson Davis Hwy, Arlington, VA 22202; (703) 601-2545; Coast Guard: Commandant, United States Coast Guard, Attn: Melissa Evans, 1900 Half St., SW, CG-431, Washington, DC 20593-0001; (202) 475-5628; COE: Ms. Kim Shelton, Army Corps of Engineers, Office of Counsel, CECC-R, 441 G Street, NW., Washington, DC 20314; (202) 761-7696; Energy: Mr. Mark Price, Department of Energy, Office of Engineering & Construction Management, MA-50, 1000 Independence Ave., SW., Washington, DC 20585: (202) 586-5422; GSA: Mr. Gordon Creed, Acting Deputy Assistant Commissioner, General Services Administration, Office of Property Disposal, 18th & F Streets, NW., Washington, DC 20405; (202) 501-0084; Interior: Mr. Michael Wright, Acquisition & Property Management, Department of the Interior, 1849 C Street, NW., MS2603, Washington, DC 20240; (202) 208-5399; Navy: Mrs. Mary Arndt, Acting Director, Department of the Navy, Real Estate Services, Naval Facilities Engineering Command, Washington Navy Yard, 1322 Patterson Ave., SE., Suite 1000, Washington, DC 20374-5065; (202) 685-9305; (These are not toll-free numbers).

Dated: April 30, 2009.
Mark R. Johnston,
Deputy Assistant Secretary for Special Needs.

TITLE V, FEDERAL SURPLUS PROPERTY PROGRAM, FEDERAL REGISTER REPORT FOR 05/08/2009

Suitable/Available Properties

Building

Arizona

Bldg. 90551

Fort Huachuca

Cochise AZ 85613

Landholding Agency: Army

Property Number: 21200920001

Status: Excess

Comments: 1270 sq. ft., most recent use—office, off-site use only

Arkansas

Job Corps Center

2020 Vance St.

Little Rock AR 72206

Landholding Agency: GSA

Property Number: 54200920003

Status: Surplus

GSA Number: 7-L-AR-0573

Comments: 74,570 sq. ft., 6 bldgs. most recent use—office/residential

California

Facility 1

OTHB Radar Site

Tulelake CA 91634

Landholding Agency: Air Force

Property Number: 18200830012

Status: Unutilized

Comments: 7920 sq. ft., most recent use—communications

Facility 2

OTHB Radar Site

Tulelake CA 91634

Landholding Agency: Air Force

Property Number: 18200830014

Status: Unutilized

Comments: 900 sq. ft., most recent use—veh maint shop

Facilities 3, 4

OTHB Radar Site

Tulelake CA 91634

Landholding Agency: Air Force

Property Number: 18200830015

Status: Unutilized

Comments: 4160 sq. ft. each, most recent use—communications

Facility 1

OTHB Radar Site

Christmas Valley CA 97641

Landholding Agency: Air Force

Property Number: 18200830016

Status: Unutilized

Comments: 16566 sq. ft., most recent use—communications

Facility 2

OTHB Radar Site

Christmas Valley CA 97641

Landholding Agency: Air Force

Property Number: 18200830017

Status: Unutilized

Comments: 900 sq. ft., most recent use—veh maint shop

Facility 4

OTHB Radar Site

Christmas Valley CA 97641

Landholding Agency: Air Force

Property Number: 18200830018

Status: Unutilized

Comments: 14,190 sq. ft., most recent use—communications

Facility 6

OTHB Radar Site

Christmas Valley CA 97641

Landholding Agency: Air Force

Property Number: 18200830019

Status: Unutilized

Comments: 14,190 sq. ft., most recent use—transmitter bldg.

Hawaii

Bldg. 849

Bellows AFS

Bellows AFS HI

Landholding Agency: Air Force

Property Number: 18200330008

Status: Unutilized

Comments: 462 sq. ft., concrete storage facility, off-site use only

Maine

Bldgs 1, 2, 3, 4

OTH-B Radar Site

Columbia Falls ME

Landholding Agency: Air Force

Property Number: 18200840009

Status: Unutilized

Comments: various sq. ft., most recent use—storage/office

Bldg. 1105

Acadia National Park

47 Fabbri Drive

Bar Harbor ME 04609

Landholding Agency: Interior

Property Number: 61200920001

Status: Unutilized

Comments: 4874 sq. ft., presence of asbestos/lead paint, most recent use—food service, off-site use only, removal must comply w/applicable env. protection & historic preservation laws

Bldg. 1084

Acadia National Park

48 Fabbri Drive

Bar Harbor ME 04609

Landholding Agency: Interior

Property Number: 61200920002

Status: Unutilized

Comments: 37,027 sq. ft., presence of asbestos/lead paint, most recent use—residential, off-site use only, removal must comply w/applicable env. protection & historic preservation laws

Bldg. 1138

Acadia National Park

29 Musetti Dr.

Bar Harbor ME 04609

Landholding Agency: Interior

Property Number: 61200920003

Status: Unutilized

Comments: 16,291 sq. ft., presence of asbestos/lead paint, most recent use—recreational, off-site use only, removal must comply w/applicable env. protection & historic preservation laws

Maryland

Federal Office Building

7550 Wisconsin Ave.

Bethesda MD 20814

Landholding Agency: GSA

Property Number: 54200920007

Status: Surplus

GSA Number: GMR-1101-1

Comments: 10,000 sq. ft., 10-story, requires major renovation, limited parking

Minnesota

2 Single Family Homes

41937 Hwy 89

Pinecreek MN 56751

Landholding Agency: GSA

Property Number: 54200920002

Status: Excess

GSA Number: 1-X-MN-0589AB

Comments: 1200 sq. ft. each, most recent use—housing, off-site use only

New Hampshire

Federal Building

719 Main St.

Parcel ID: 424-124-78

Laconia NH 03246

Landholding Agency: GSA

Property Number: 54200920006

Status: Excess

GSA Number: 1-G-NH-0503

Comments: 31,271 sq. ft., most recent use—office bldg., National Register nomination pending

New York

Bldg. 240

Rome Lab

Rome Co: Oneida NY 13441

Landholding Agency: Air Force

Property Number: 18200340023

Status: Unutilized

Comments: 39108 sq. ft., presence of asbestos, most recent use—Electronic Research Lab

Bldg. 247

Rome Lab

Rome Co: Oneida NY 13441

Landholding Agency: Air Force

Property Number: 18200340024

Status: Unutilized

Comments: 13199 sq. ft., presence of asbestos, most recent use—Electronic Research Lab

Bldg. 248

Rome Lab

Rome Co: Oneida NY 13441

Landholding Agency: Air Force

Property Number: 18200340025

Status: Unutilized

Comments: 4000 sq. ft., presence of asbestos, most recent use—Electronic Research Lab

Bldg. 302

Rome Lab

Rome Co: Oneida NY 13441

Landholding Agency: Air Force

Property Number: 18200340026

Status: Unutilized

Comments: 10288 sq. ft., presence of asbestos, most recent use—communications facility

Oklahoma

Bldg. 07480

Fort Sill

Lawton OK 73501

Landholding Agency: Army

Property Number: 21200920002

Status: Unutilized

Comments: 1200 sq. ft., most recent use—recreation, off-site use only

Rhode Island

Former SSA Bldg.

Broad & Exchange Streets

Pawtucket RI

Landholding Agency: GSA

Property Number: 54200920008

Status: Excess

GSA Number: 1-G-RI-0518

Comments: 6254 sq. ft., most recent use—office

South Carolina

256 Housing Units

Charleston AFB

South Side Housing

Charleston SC

Landholding Agency: Air Force

Property Number: 18200920001

Status: Excess

Comments: various sq. ft., presence of asbestos/lead paint, off-site use only

Tennessee

Bldg. Trail

Fort Campbell

Montgomery TN 42223

Landholding Agency: Army

Property Number: 21200920010

Status: Excess

Comments: 2104 sq. ft., double-wide trailer, off-site use only

Washington

10 Manufactured Homes

1500 S. Keys Rd.

Yakima WA 98901

Landholding Agency: Interior

Property Number: 61200920004

Status: Unutilized

Comments: various sq. ft., single & double-wide, off-site use only

West Restroom/Shower Bldg.

1500 S. Keys Rd.

Yakima WA 98901

Landholding Agency: Interior

Property Number: 61200920005

Status: Unutilized

Comments: 876 sq. ft., possible asbestos/lead paint, off-site use only

Building

1500 S. Keys Rd.

Yakima WA 98901

Landholding Agency: Interior

Property Number: 61200920006

Status: Unutilized

Comments: laundry room, work shop, laundry equip room, store room, possible asbestos/lead paint, off-site use only

Building

1500 S. Keys Rd.

Yakima WA 98901

Landholding Agency: Interior

Property Number: 61200920007

Status: Unutilized

Comments: office/store/restrooms on 1st floor, apartment on 2nd floor, possible asbestos/lead paint, off-site use only

Building

1500 S. Keys Rd.

Yakima WA 98901

Landholding Agency: Interior

Property Number: 61200920008

Status: Unutilized

Comments: rec room/storage garage/apartment/equip storage, possible asbestos/lead paint, off-site use only

10 cabins

Former KOA Kampground

1500 S. Keys Rd.

Yakima WA 98901

Landholding Agency: Interior

Property Number: 61200920016

Status: Unutilized

Comments: 155 sq. ft. & 216 sq. ft., off-site use only

Land

Arizona

Salt River Project

Pecos/Alma School Road

#USBR-08-020

Chander AZ 85225

Landholding Agency: GSA

Property Number: 54200920001

Status: Surplus

GSA Number: 9-I-AZ-0850

Comments: approx. 34,183 sq. ft., ranges from 10-20 ft. wide, very long and narrow

Tracts SG-2-8a, 8b

Portion

Apache Junction AZ 85220

Landholding Agency: Interior

Property Number: 61200920009

Status: Excess

Comments: 1.36 acre, water treatment plant access

California

Parcels L1 & L2

George AFB

Victorville CA 92394

Landholding Agency: Air Force Property Number: 18200820034

Status: Excess

Comments: 157 acres/desert, pump-and-treat system, groundwater restrictions, AF access rights, access restrictions, environmental concerns

Connecticut

MYQ Outer Marker Facility

Enfield CT 06082

Landholding Agency: GSA

Property Number: 54200920004

Status: Surplus

GSA Number: 1-U-CT-0561-1A

Comments: 0.341 acres, only accessible via right of way easement

Massachusetts

FAA Locator Antenna LOM

Coleman Road

Southhampton MA 01073

Landholding Agency: GSA

Property Number: 54200920005

Status: Excess

GSA Number: MA-0913-AA

Comments: 1.41 acres

Missouri

Communications Site

County Road 424

Dexter Co: Stoddard MO

Landholding Agency: Air Force Property Number: 18200710001

Status: Unutilized

Comments: 10.63 acres

North Carolina

0.14 acres

Pope AFB

Pope AFB NC

Landholding Agency: Air Force Property Number: 18200810001

Status: Excess

Comments: most recent use—middle marker, easement for entry

Tennessee

Parcel No. 1

Fort Campbell

Tract No. 13M-3

Montgomery TN 42223

Landholding Agency: Army

Property Number: 21200920003

Status: Excess

Comments: 6.89 acres/thick vegetation

Parcel No. 2

Fort Campbell

Tract Nos.12M-16B & 13M-3

Montgomery TN 42223

Landholding Agency: Army

Property Number: 21200920004

Status: Excess

Comments: 3.41 acres/wooded

Parcel No. 3

Fort Campbell

Tract No. 12M-4

Montgomery TN 42223

Landholding Agency: Army

Property Number: 21200920005

Status: Excess

Comments: 6.56 acre/wooded

Parcel No. 4

Fort Campbell

Tract Nos10M-22 &10M-23

Montgomery TN 42223

Landholding Agency: Army

Property Number: 21200920006

Status: Excess

Comments: 5.73 acres/wooded

Parcel No. 5

Fort Campbell

Tract No. 10M-20

Montgomery TN 42223

Landholding Agency: Army

Property Number: 21200920007

Status: Excess

Comments: 3.86 acres/wooded

Parcel No. 7

Fort Campbell

Tract No. 10M-10

Montgomery TN 42223

Landholding Agency: Army

Property Number: 21200920008

Status: Excess

Comments: 9.47 acres/wooded

Parcel No. 8

Fort Campbell

Tract No. 8M-7

Montgomery TN 42223

Landholding Agency: Army

Property Number: 21200920009

Status: Excess

Comments: 15.13 acres/wooded

Texas

0.13 acres

DYAB, Dyess AFB

Tye Co: Taylor TX 79563

Landholding Agency: Air Force

Property Number: 18200810002

Status: Unutilized

Comments: most recent use—middle marker, access limitation

Suitable/Unavailable Properties

Building

Washington

Bldg. 404/Geiger Heights

Fairchild AFB

Spokane WA 99224

Landholding Agency: Air Force

Property Number: 18200420002

Status: Unutilized

Comments: 1996 sq. ft., possible asbestos/lead paint, most recent use—residential

11 Bldgs./Geiger Heights

Fairchild AFB

Spokane WA 99224

Landholding Agency: Air Force

Property Number: 18200420003

Status: Unutilized

Comments: 2134 sq. ft., possible asbestos/lead paint, most recent use—residential

Bldg. 297/Geiger Heights

Fairchild AFB

Spokane WA 99224

Landholding Agency: Air Force

Property Number: 18200420004

Status: Unutilized

Comments: 1425 sq. ft., possible asbestos/lead paint, most recent use—residential

9 Bldgs./Geiger Heights

Fairchild AFB

Spokane WA 99224

Landholding Agency: Air Force

Property Number: 18200420005

Status: Unutilized

Comments: 1620 sq. ft., possible asbestos/lead paint, most recent use—residential

22 Bldgs./Geiger Heights

Fairchild AFB

Spokane WA 99224

Landholding Agency: Air Force

Property Number: 18200420006

Status: Unutilized

Comments: 2850 sq. ft., possible asbestos/lead paint, most recent use—residential

51 Bldgs./Geiger Heights

Fairchild AFB

Spokane WA 99224

Landholding Agency: Air Force

Property Number: 18200420007

Status: Unutilized

Comments: 2574 sq. ft., possible asbestos/lead paint, most recent use—residential

Bldg. 402/Geiger Heights

Fairchild AFB

Spokane WA 99224

Landholding Agency: Air Force

Property Number: 18200420008

Status: Unutilized

Comments: 2451 sq. ft., possible asbestos/lead paint, most recent use—residential

5 Bldgs./Geiger Heights

Fairchild AFB

222, 224, 271, 295, 260

Spokane WA 99224

Landholding Agency: Air Force

Property Number: 18200420009

Status: Unutilized

Comments: 3043 sq. ft., possible asbestos/lead paint, most recent use—residential

5 Bldgs./Geiger Heights

Fairchild AFB

102, 183, 118, 136, 113

Spokane WA 99224

Landholding Agency: Air Force

Property Number: 18200420010

Status: Unutilized

Comments: 2599 sq. ft., possible asbestos/lead paint, most recent use—residential

Land

South Dakota

Tract 133

Ellsworth AFB

Box Elder Co: Pennington SD 57706

Landholding Agency: Air Force

Property Number: 18200310004

Status: Unutilized

Comments: 53.23 acres

Tract 67

Ellsworth AFB

Box Elder Co: Pennington SD 57706

Landholding Agency: Air Force

Property Number: 18200310005

Status: Unutilized

Comments: 121 acres, bentonite layer in soil, causes movement

Unsuitable Properties

Building

Alabama

Bldgs. 04122, 04184

Redstone Arsenal

Madison AL 35898

Landholding Agency: Army

Property Number: 21200920011

Status: Unutilized

Reasons: Secured Area

Alaska

Bldg. 9485

Elmendorf AFB

Elmendorf AK

Landholding Agency: Air Force

Property Number: 18200730001

Status: Unutilized

Reasons: Secured Area

Bldg. 70500

Seward AFB

Seward AK 99664

Landholding Agency: Air Force

Property Number: 18200820001

Status: Unutilized

Reasons: Secured Area

Bldg. 3224 Eielson AFB

Eielson AK 99702

Landholding Agency: Air Force

Property Number: 18200820002

Status: Unutilized

Reasons: Secured Area, Extensive deterioration

Bldgs. 1437, 1190, 2375

Eielson AFB

Eielson AK

Landholding Agency: Air Force

Property Number: 18200830001

Status: Unutilized

Reasons: Secured Area, Extensive deterioration

5 Bldgs.

Eielson AFB

Eielson AK

Landholding Agency: Air Force

Property Number: 18200830002

Status: Unutilized

Directions: 3300, 3301, 3315, 3347, 3383

Reasons: Extensive deterioration, Secured Area

4 Bldgs.

Eielson AFB

Eielson AK

Landholding Agency: Air Force

Property Number: 18200830003

Status: Unutilized

Directions: 4040, 4332, 4333, 4480

Reasons: Secured Area, Extensive deterioration

Bldgs. 6122, 6205

Eielson AFB

Eielson AK

Landholding Agency: Air Force

Property Number: 18200830004

Status: Unutilized

Reasons: Extensive deterioration, Secured Area

Bldg. 8128

Elmendorf AFB

Elmendorf AK 99506

Landholding Agency: Air Force

Property Number: 18200830005

Status: Underutilized

Reasons: Secured Area

Bldgs. 8130, 8132, 17637

Elmendorf AFB

Anchorage AK 99506

Landholding Agency: Air Force

Property Number: 18200920002

Status: Unutilized

Reasons: Extensive deterioration, Secured Area

Bldg. 7111

Elmendorf AFB

Anchorage AK

Landholding Agency: Air Force

Property Number: 18200920014

Status: Unutilized

Reasons: Secured Area

Bldgs. 615, 617, 751, 753

Eareckson Air Station

Shemya Island AK

Landholding Agency: Air Force

Property Number: 18200920015

Status: Unutilized

Reasons: Extensive deterioration, Secured Area, Within airport runway clear zone, Within 2000 ft. of flammable or explosive material

Transmitter Bldg. B4A

Loran Station

St. Paul AK 99660

Landholding Agency: Coast Guard

Property Number: 88200920001

Status: Excess

Reasons: Contamination

Arizona

Railroad Spur

Davis-Monthan AFB

Tucson AZ 85707

Landholding Agency: Air Force

Property Number: 18200730002

Status: Excess

Reasons: Within airport runway clear zone

California

Bldgs. 5001 thru 5082

Edwards AFB

Area A

Los Angeles CA 93524

Landholding Agency: Air Force

Property Number: 18200620002

Status: Unutilized

Reasons: Extensive deterioration, Secured Area

Garages 25001 thru 25100

Edwards AFB

Area A

Los Angeles CA 93524

Landholding Agency: Air Force

Property Number: 18200620003

Status: Unutilized

Reasons: Extensive deterioration, Secured Area

Bldg. 00275

Edwards AFB

Kern CA 93524

Landholding Agency: Air Force

Property Number: 18200730003

Status: Unutilized

Reasons: Extensive deterioration, Secured Area, Within airport runway clear zone

Bldgs. 02845, 05331, 06790

Edwards AFB

Kern CA 93524

Landholding Agency: Air Force

Property Number: 18200740001

Status: Unutilized

Reasons: Extensive deterioration

Bldgs. 07173, 07175, 07980

Edwards AFB

Kern CA 93524

Landholding Agency: Air Force

Property Number: 18200740002

Status: Unutilized

Reasons: Secured Area

Bldg. 5308

Edwards AFB

Kern CA 93523

Landholding Agency: Air Force

Property Number: 18200810003

Status: Unutilized

Reasons: Secured Area, Extensive deterioration

Facility 100

Pt. Arena AF Station

Mendocino CA 95468

Landholding Agency: Air Force

Property Number: 18200810004

Status: Excess

Reasons: Secured Area, Extensive deterioration

5 Bldgs.

Vandenberg AFB

1521, 1522, 1523, 1753, 1826

Vandenberg CA 93437

Landholding Agency: Air Force

Property Number: 18200820006

Status: Unutilized

Reasons: Secured Area

Bldgs. 1952, 1953, 1957, 1958

Vandenberg AFB

Vandenberg CA 93437

Landholding Agency: Air Force

Property Number: 18200820007

Status: Unutilized

Reasons: Secured Area

Bldgs. 1992, 1995

Vandenberg AFB

Vandenberg CA 93437

Landholding Agency: Air Force

Property Number: 18200820008

Status: Unutilized

Reasons: Secured Area

Bldgs. 10755, 11008

Vandenberg AFB

Vandenberg CA 93437

Landholding Agency: Air Force

Property Number: 18200820009

Status: Unutilized

Reasons: Secured Area

Bldg. 16133

Vandenberg AFB

Vandenberg CA 93437

Landholding Agency: Air Force

Property Number: 18200820011

Status: Unutilized

Reasons: Secured Area

5 Bldgs.

Pt. Arena AF Station

101, 102, 104, 105, 108

Mendocino CA 95468

Landholding Agency: Air Force

Property Number: 18200820019

Status: Excess

Reasons: Extensive deterioration, Secured Area

Bldgs. 160, 161, 166

Pt. Arena AF Station

Mendocino CA 95468

Landholding Agency: Air Force

Property Number: 18200820020

Status: Excess

Reasons: Extensive deterioration, Secured Area

8 Bldgs.

Pt. Arena AF Station

Mendocino CA 95468

Landholding Agency: Air Force

Property Number: 18200820021

Status: Excess

Directions: 201, 202, 203, 206, 215, 216, 217, 218

Reasons: Extensive deterioration, Secured Area

7 Bldgs.

Pt. Arena AF Station

Mendocino CA 95468

Landholding Agency: Air Force

Property Number: 18200820022

Status: Excess

Directions: 220, 221, 222, 223, 225, 226, 228

Reasons: Extensive deterioration, Secured Area

Bldg. 408

Pt. Arena AF Station

Mendocino CA 95468

Landholding Agency: Air Force

Property Number: 18200820023

Status: Excess

Reasons: Secured Area, Extensive deterioration

Bldgs. 601 thru 610

Pt. Arena AF Station

Mendocino CA 95468

Landholding Agency: Air Force

Property Number: 18200820024

Status: Excess

Reasons: Extensive deterioration, Secured Area

Bldgs. 611-619

Pt. Arena AF Station

Mendocino CA 95468

Landholding Agency: Air Force

Property Number: 18200820025

Status: Excess

Reasons: Extensive deterioration, Secured Area

Bldgs. 620 thru 627

Pt. Arena AF Station

Mendocino CA 95468

Landholding Agency: Air Force

Property Number: 18200820026

Status: Excess

Reasons: Secured Area, Extensive deterioration

Bldgs. 654, 655, 690

Pt. Arena AF Station

Mendocino CA 95468

Landholding Agency: Air Force

Property Number: 18200820027

Status: Excess

Reasons: Secured Area, Extensive deterioration

Bldgs. 300, 387

Pt Arena Comm Annex

Mendocino CA 95468

Landholding Agency: Air Force

Property Number: 18200820029

Status: Excess

Reasons: Secured Area, Extensive deterioration

Bldgs. 700, 707, 796, 797

Pt. Arena Comm Annex

Mendocino CA 95468

Landholding Agency: Air Force

Property Number: 18200820030

Status: Excess

Reasons: Secured Area, Extensive deterioration

Bldgs. 748, 838

Vandenberg AFB

Vandenberg CA 93437

Landholding Agency: Air Force

Property Number: 18200820033

Status: Unutilized

Reasons: Secured Area

Bldgs. 1412, 2422, 3514

Edwards AFB

Kern CA 93524

Landholding Agency: Air Force

Property Number: 18200840001

Status: Unutilized

Reasons: Extensive deterioration, Secured Area

Bldg. 417

Fort MacArthur

Fort MacArthur CA

Landholding Agency: Air Force

Property Number: 18200920003

Status: Unutilized

Reasons: Extensive deterioration, Secured Area

Bldg. 3094

Yosemite National Park

Yosemite CA 95318

Landholding Agency: Interior

Property Number: 61200920010

Status: Unutilized

Reasons: Extensive deterioration

Bldg. 3493

Naval Base

San Diego CA

Landholding Agency: Navy

Property Number: 77200920001

Status: Unutilized

Reasons: Secured Area

Bldgs. 2245, 2513T, 5509

Marine Corps Air Station

Miramar CA

Landholding Agency: Navy

Property Number: 77200920002

Status: Excess

Reasons: Extensive deterioration, Secured Area

8 Bldgs.

Marine Corps Base

Camp Pendleton CA 92055

Landholding Agency: Navy

Property Number: 77200920003

Status: Excess

Directions: 1255, 1490, 14121, 14122, 14125, 14127, 62432, 140135

Reasons: Secured Area, Extensive deterioration

4 Bldgs.

Naval Air Weapons Station

China Lake CA 93555

Landholding Agency: Navy

Property Number: 77200920004

Status: Excess

Directions: 02702, 02703, 02704, 02705

Reasons: Secured Area, Extensive deterioration

Bldgs. PM3-4, PM153

Naval Base

Point Mugu Co: Ventura CA 93043

Landholding Agency: Navy

Property Number: 77200920005

Status: Unutilized

Reasons: Extensive deterioration, Secured Area

11 Bldgs.

Naval Base

San Nicholas Island Co: Ventura CA 93043

Landholding Agency: Navy

Property Number: 77200920006

Status: Unutilized

Directions: SNI11, 16, 22, 45, 49, 71, 72, 141, 202, 213, 229

Reasons: Extensive deterioration, Secured Area

Bldgs. PM126, 327, 327-A

Naval Base

Point Mugu Co: Ventura CA 93043

Landholding Agency: Navy

Property Number: 77200920007

Status: Unutilized

Reasons: Extensive deterioration, Secured Area

Bldg. PH 462

Naval Base

Port Hueneme Co: Ventura CA 93043

Landholding Agency: Navy

Property Number: 77200920008

Status: Unutilized

Reasons: Extensive deterioration, Secured Area

14 Bldgs.

Naval Base

Point Mugu Co: Ventura CA 93043

Landholding Agency: Navy

Property Number: 77200920009

Status: Unutilized

Directions: PM4-4, 4-27, 4-30, 6-817, 37, 42, 223, 401, 733, 793, 803, 841, 842, 855

Reasons: Extensive deterioration, Secured Area

Bldgs. PH274, 462, 808, 837

Naval Base

Port Hueneme Co: Ventura CA 93043

Landholding Agency: Navy

Property Number: 77200920010

Status: Unutilized

Reasons: Extensive deterioration, Secured Area

Colorado

Bldg. 9038

U.S. Air Force Academy

El Paso CO 80840

Landholding Agency: Air Force

Property Number: 18200920004

Status: Unutilized

Reasons: Extensive deterioration

Florida

Bldg. 01248

Cape Canaveral AFS

Brevard FL 32925

Landholding Agency: Air Force

Property Number: 18200740003

Status: Unutilized

Reasons: Secured Area

Bldg. 44426

Cape Canaveral AFS

Brevard FL 32925

Landholding Agency: Air Force

Property Number: 18200740004

Status: Unutilized

Reasons: Secured Area

Bldg. 85406

Cape Canaveral AFS

Brevard FL 32925

Landholding Agency: Air Force

Property Number: 18200740005

Status: Unutilized

Reasons: Secured Area

Bldg. 82

Air Force Range

Avon Park FL 33825

Landholding Agency: Air Force

Property Number: 18200840002

Status: Unutilized

Reasons: Secured Area, Contamination

Tracts 104-10, 104-16

Canaveral Natl Seashore

Volusia FL

Landholding Agency: Interior

Property Number: 61200920017

Status: Unutilized

Reasons: Extensive deterioration

Georgia

6 Cabins

QSRG Grassy Pond Rec Annex

Lake Park GA 31636

Landholding Agency: Air Force

Property Number: 18200730004

Status: Unutilized

Reasons: Extensive deterioration

Bldgs. 101, 102, 103

Moody AFB

Lowndes GA 31699

Landholding Agency: Air Force

Property Number: 18200810006

Status: Excess

Reasons: Extensive deterioration

Bldgs. 330, 331, 332, 333

Moody AFB

Lowndes GA 31699

Landholding Agency: Air Force

Property Number: 18200810007

Status: Excess

Reasons: Extensive deterioration

Bldgs. 794, 1541

Moody AFB

Lowndes GA

Landholding Agency: Air Force

Property Number: 18200820012

Status: Unutilized

Reasons: Secured Area

Bldg. 970

Moody AFB

Lowndes GA 31699

Landholding Agency: Air Force

Property Number: 18200840003

Status: Unutilized

Reasons: Secured Area

Bldg. 205

Moody AFB

Lowndes GA 31699

Landholding Agency: Air Force

Property Number: 18200920005

Status: Unutilized

Reasons: Extensive deterioration, Secured Area

Bldgs. 104, 118, 739, 742, 973

Moody AFB

Lowndes GA 31699

Landholding Agency: Air Force

Property Number: 18200920016

Status: Unutilized

Reasons: Extensive deterioration, Secured Area

Bldgs. 00705, 00706, 00803

Hunter Army Airfield

Chatham GA 31409

Landholding Agency: Army

Property Number: 21200920012

Status: Excess

Reasons: Secured Area

5 Bldgs.

Fort Stewart

Liberty GA 31314

Landholding Agency: Army

Property Number: 21200920013

Status: Excess

Directions: 00270, 00272, 00276, 00277, 00616, 00718

Reasons: Secured Area

Bldgs. 314, 315, 9225

Fort Benning

Ft. Benning GA 31905

Landholding Agency: Army

Property Number: 21200920014

Status: Excess

Reasons: Extensive deterioration, Secured Area

9 Comfort Stations

Hartwell Lake & Dam

Hartwell GA 30643

Landholding Agency: COE

Property Number: 31200920001

Status: Unutilized

Directions: HAR 16099, 16100, 16102, 16555, 16920, 16838, 18482, 18483

Reasons: Extensive deterioration

RBR-19069

Richard B. Russell Lake

Elberton GA 30635

Landholding Agency: COE

Property Number: 31200920002

Status: Unutilized

Reasons: Extensive deterioration

Guam

Bldg. 1094

AAFB Yigo

Yigo GU 96543

Landholding Agency: Air Force

Property Number: 18200830007

Status: Unutilized

Reasons: Extensive deterioration

15 Bldgs.

Andersen AFB

Yigo GU 96543

Landholding Agency: Air Force

Property Number: 18200920006

Status: Excess

Reasons: Secured Area

Bldgs. 72, 73, 74

Andersen AFB

Mount Santa Rosa GU

Landholding Agency: Air Force

Property Number: 18200920017

Status: Excess

Reasons: Extensive deterioration, Secured Area

Bldgs. 101, 102

Andersen AFB

Pots Junction GU

Landholding Agency: Air Force

Property Number: 18200920018

Status: Excess

Reasons: Extensive deterioration

Hawaii

Bldg. 1815

Hickam AFB

Hickam HI 96853

Landholding Agency: Air Force

Property Number: 18200730005

Status: Unutilized

Reasons: Extensive deterioration

Bldgs. 1028, 1029

Hickam AFB

Hickam HI 96853

Landholding Agency: Air Force

Property Number: 18200740006

Status: Unutilized

Reasons: Secured Area

Bldgs. 1710, 1711

Hickam AFB

Hickam HI 96853

Landholding Agency: Air Force

Property Number: 18200740007

Status: Unutilized

Reasons: Secured Area

Bldg. 1713

Hickam AFB

Hickam HI

Landholding Agency: Air Force

Property Number: 18200830008

Status: Unutilized

Reasons: Extensive deterioration

Bldg. 1843

Hickam AFB

Hickam HI 96853

Landholding Agency: Air Force

Property Number: 18200920019

Status: Unutilized

Reasons: Extensive deterioration

6 Bldgs.

Schofield Barracks

Wahiawa HI 96786

Landholding Agency: Army

Property Number: 21200920015

Status: Unutilized

Directions: 03920, 03930, 03932, 03934, 03938, 03940

Reasons: Secured Area

Bldgs. A3, 391A, 392

Naval Station

Pearl Harbor HI 96860

Landholding Agency: Navy

Property Number: 77200920013

Status: Excess

Reasons: Secured Area, Extensive deterioration

Bldg. 3

Opana Reg. Relay Facility

Kahuku HI 96731

Landholding Agency: Navy

Property Number: 77200920014

Status: Excess

Reasons: Extensive deterioration, Secured Area

Illinois

Repair Unit Land

400 Old Rock Rd.

Granite City IL 62040

Landholding Agency: COE

Property Number: 31200920005

Status: Unutilized

Reasons: Extensive deterioration

Iowa

4 Bldgs.

Island View Park

Centerville IA 52544

Landholding Agency: COE

Property Number: 31200920003

Status: Excess

Directions: RTHBUN 29375, 29371, 29366, 29364

Reasons: Extensive deterioration

Bldg. RTHBUN 29308

Bridge View Park

Melrose IA 52569

Landholding Agency: COE

Property Number: 31200920004

Status: Excess

Reasons: Extensive deterioration

Kansas

14 Bldgs.

Elk City Lake

Cherryvale KS 67335

Landholding Agency: COE

Property Number: 31200920006

Status: Unutilized

Reasons: Extensive deterioration

Bldgs. 25007, 25035, 25036

Lucas Park

Sylvan Grove KS 67481

Landholding Agency: COE

Property Number: 31200920007

Status: Excess

Reasons: Extensive deterioration

Louisiana

Barksdale Middle Marker

Bossier LA 71112

Landholding Agency: Air Force

Property Number: 18200730006

Status: Excess

Reasons: Extensive deterioration

Maine

Facilities 1, 2, 3, 4 OTH-B Site

Moscow ME 04920

Landholding Agency: Air Force

Property Number: 18200730007

Status: Unutilized

Reasons: Within 2000 ft. of flammable or explosive material

OTH-B Site

Bldgs 1, 2, 3

Moscow ME 04920

Landholding Agency: GSA

Property Number: 54200920010

Status: Excess

GSA Number: 1-D-ME-068

Reasons: Secured Area

Robb House, Tract 1-105

Saint Croix Island

International Historic Site

Calais ME 04619

Landholding Agency: Interior

Property Number: 61200920012

Status: Unutilized

Reasons: Extensive deterioration

Maryland

6 Bldgs.

Aberdeen Proving Ground

Harford MD 21005

Landholding Agency: Army

Property Number: 21200920016

Status: Unutilized

Directions: 00099, 00664, E2338, E2340, E5441, 05650

Reasons: Secured Area

Bldgs. 200-216

Naval Air Station

Solomons MD

Landholding Agency: Navy

Property Number: 77200920011

Status: Excess

Reasons: Extensive deterioration, Secured Area

Bldgs. 23, 69

Naval Air Station

Solomons MD

Landholding Agency: Navy

Property Number: 77200920012

Status: Excess

Reasons: Secured Area, Extensive deterioration

Massachusetts

Tract 01-8726, FORACS

Cape Code Natl Seashore

Provincetown MA 02657

Landholding Agency: Interior

Property Number: 61200920011

Status: Unutilized

Reasons: Extensive deterioration

5 Bldgs.

USCG Air Station

3434, 3435, 3436, 5424, 5451

Bourne MA 02542

Landholding Agency: Coast Guard

Property Number: 88200920002

Status: Excess

Reasons: Secured Area, Extensive deterioration

Michigan

Bldg. 001

USCG Sector

Sault Ste Marie MI 49783

Landholding Agency: Coast Guard

Property Number: 88200920003

Status: Unutilized

Reasons: Secured Area

Missouri

Bldg. 13018

Harry S. Truman Reservoir

Clinton MO 64735

Landholding Agency: COE

Property Number: 31200920008

Status: Unutilized

Reasons: Extensive deterioration

Bldg. 2300Z

Masters Park

Stockton MO 65785

Landholding Agency: COE

Property Number: 31200920009

Status: Excess

Reasons: Extensive deterioration

Montana

Bldgs. 1600, 1601

Malmstrom AFB

Cascade MT 59402

Landholding Agency: Air Force

Property Number: 18200920020

Status: Unutilized

Reasons: Within 2000 ft. of flammable or explosive material, Secured Area, Extensive deterioration

Nevada

Bldg. 33400

Ely

Ely NV 89301

Landholding Agency: Air Force

Property Number: 18200820014

Status: Unutilized

Reasons: Extensive deterioration, Secured Area

New Hampshire

Bldgs. 122, 153, 501, 502

New Boston AF Station

Hillsborough NH

Landholding Agency: Air Force

Property Number: 18200820015

Status: Unutilized

Reasons: Secured Area

Bldg. 152

Pease Internatl Tradeport

Newington NH 03803

Landholding Agency: Air Force

Property Number: 18200920007

Status: Unutilized

Reasons: Within 2000 ft. of flammable or explosive material, Secured Area

Bldg. 131

Portsmouth Naval Shipyard

Portsmouth NH

Landholding Agency: Navy

Property Number: 77200920015

Status: Excess

Reasons: Secured Area

New Jersey

6 Bldgs.

Picatinny Arsenal

Dover NJ 07806

Landholding Agency: Army

Property Number: 21200920017

Status: Unutilized

Directions: 00080, 00630, 00633, 00635, 00636, 0636C

Reasons: Secured Area

New Mexico

Bldg. 1016

Kirtland AFB

Bernalillo NM 87117

Landholding Agency: Air Force

Property Number: 18200730008

Status: Unutilized

Reasons: Extensive deterioration, Secured Area, Within 2000 ft. of flammable or explosive material

Bldgs. 40, 841

Holloman AFB

Otero NM 88330

Landholding Agency: Air Force

Property Number: 18200820016

Status: Underutilized

Reasons: Secured Area

Bldgs. 436, 437

Kirtland AFB

Bernalillo NM 87117

Landholding Agency: Air Force

Property Number: 18200820017

Status: Underutilized

Reasons: Within 2000 ft. of flammable or explosive material Secured Area

6 Bldgs.

Cannon AFB

Curry NM 88102

Landholding Agency: Air Force

Property Number: 18200830009

Status: Underutilized

Directions: 1156, 1160, 1245, 1256, 1258, 1260

Reasons: Secured Area

Bldgs. 20612, 29071, 37505

Kirtland AFB

Bernalillo NM 87117

Landholding Agency: Air Force

Property Number: 18200830010

Status: Unutilized

Reasons: Secured Area

Bldgs. 88, 89

Holloman AFB

Otero NM 88330

Landholding Agency: Air Force

Property Number: 18200830020

Status: Unutilized

Reasons: Within 2000 ft. of flammable or explosive material, Secured Area, Extensive deterioration

Bldgs. 312, 322

Holloman AFB

Otero NM 88330

Landholding Agency: Air Force

Property Number: 18200830021

Status: Unutilized

Reasons: Secured Area

Bldg. 569

Holloman AFB

Otero NM 88330

Landholding Agency: Air Force

Property Number: 18200830022

Status: Unutilized

Reasons: Secured Area, Within 2000 ft. of flammable or explosive material

Bldgs. 807, 833

Holloman AFB

Otero NM 88330

Landholding Agency: Air Force

Property Number: 18200830023

Status: Unutilized

Reasons: Within 2000 ft. of flammable or explosive material Secured Area

Bldg. 1245

Holloman AFB

Otero NM 88330

Landholding Agency: Air Force

Property Number: 18200830024

Status: Unutilized

Reasons: Secured Area

5 Bldgs.

Holloman AFB

Otero NM 88330

Landholding Agency: Air Force

Property Number: 18200840004

Status: Unutilized

Directions: 1201, 1202, 1203, 1205, 1207

Reasons: Secured Area

5 Bldgs.

Holloman AFB

Otero NM 88330

Landholding Agency: Air Force

Property Number: 18200920008

Status: Unutilized

Directions: 71, 1187, 1200, 1284, 1285

Reasons: Secured Area

Bldg. 6596

Sandia National Labs

Albuquerque NM 87185

Landholding Agency: Energy

Property Number: 41200920001

Status: Unutilized

Reasons: Extensive deterioration, Secured Area

New York

8 Bldgs.

Fort Drum

Jefferson NY 13601

Landholding Agency: Army

Property Number: 21200920018

Status: Unutilized

Directions: T-377, T-378, T-531, T-537, T-538, T-597, T-598, T-599

Reasons: Secured Area

4 Bldgs.

Fort Drum

Jefferson NY 13601

Landholding Agency: Army

Property Number: 21200920019

Status: Unutilized

Directions: T1642, T1644, T1647, T2216

Reasons: Secured Area

Bldgs. 680B, 680C

Brookhaven Natl Lab

Upton NY 11973

Landholding Agency: Energy

Property Number: 41200920002

Status: Excess

Reasons: Extensive deterioration, Secured Area, Within 2000 ft. of flammable or explosive material

North Dakota

Bldgs. 1612, 1741

Grand Forks AFB

Grand Forks ND 58205

Landholding Agency: Air Force

Property Number: 18200720023

Status: Unutilized

Reasons: Secured Area, Within 2000 ft. of flammable or explosive material

Oklahoma

Bldg. 43446, Keystone

Washington Irving Rec Area

Sand Springs OK 74063

Landholding Agency: COE

Property Number: 31200920010

Status: Unutilized

Reasons: Extensive deterioration

Bldgs. 43611, 43612, 43545

Kaw Lake

Coon Creek

Ponca City OK 74604

Landholding Agency: COE

Property Number: 31200920011

Status: Unutilized

Reasons: Extensive deterioration

9 Bldgs.

Eufaula Lake

Stigler OK 74462

Landholding Agency: COE

Property Number: 31200920012

Status: Unutilized

Reasons: Extensive deterioration

Bldg. 44065

Fort Gibson

Taylor Ferry South

Ft. Gibson OK 74434

Landholding Agency: COE

Property Number: 31200920013

Status: Unutilized

Reasons: Extensive deterioration

10 Bldgs.

Flat Rock Creek

Fort Gibson OK 74434

Landholding Agency: COE

Property Number: 31200920014

Status: Unutilized

Reasons: Extensive deterioration

Bldg. 44763

Canton Lake

Canton OK 73724

Landholding Agency: COE

Property Number: 31200920015

Status: Unutilized

Reasons: Extensive deterioration

Bldgs. 43302, 43303

Newt Graham Lock & Dam

Inola OK 74036

Landholding Agency: COE

Property Number: 31200920016

Status: Unutilized

Reasons: Extensive deterioration

Oregon

Bldg. 1001

ANG Base

Portland OR 97218

Landholding Agency: Air Force

Property Number: 18200820018

Status: Underutilized

Reasons: Secured Area, Within 2000 ft. of flammable or explosive material

Pennsylvania

Rose Cottage, Tract 101-14

Valley Forge National

Historic Park

Malvern PA 19355

Landholding Agency: Interior

Property Number: 61200920013

Status: Excess

Reasons: Extensive deterioration

South Carolina

Bldgs. 19, 20, 23

Shaw AFB

Sumter SC 29152

Landholding Agency: Air Force

Property Number: 18200730009

Status: Underutilized

Reasons: Secured Area

Bldgs. 27, 28, 29

Shaw AFB

Sumter SC 29152

Landholding Agency: Air Force

Property Number: 18200730010

Status: Underutilized

Reasons: Secured Area

Bldgs. 30, 39

Shaw AFB

Sumter SC 29152

Landholding Agency: Air Force

Property Number: 18200730011

Status: Underutilized

Reasons: Secured Area

8 Bldgs.

Shaw AFB

Sumter SC 29152

Landholding Agency: Air Force

Property Number: 18200920021

Status: Unutilized

Directions: B14, B22, B31, B116, B218, B232, B343, B3403

Reasons: Secured Area

36 Bldgs.

J. Strom Thurmond Lake

Clarks Hill SC 29821

Landholding Agency: COE

Property Number: 31200920017

Status: Unutilized

Reasons: Extensive deterioration

Bldg. JST 17244

J. Strom Thurmond Lake

Clarks Hill SC 29821

Landholding Agency: COE

Property Number: 31200920018

Status: Unutilized

Reasons: Extensive deterioration

South Dakota

Bldg. 2306

Ellsworth AFB

Meade SD 57706

Landholding Agency: Air Force

Property Number: 18200740008

Status: Underutilized

Reasons: Secured Area, Within 2000 ft. of flammable or explosive material

Bldg. 6927

Ellsworth AFB

Meade SD 57706

Landholding Agency: Air Force

Property Number: 18200830011

Status: Unutilized

Reasons: Secured Area, Within 2000 ft. of flammable or explosive material

Tennessee

13 Bldgs.

Y-12 Natl Security Complex

Oak Ridge TN 37831

Landholding Agency: Energy

Property Number: 41200920003

Status: Unutilized

Directions: 9404-02, 9404-04, 9409-04, 9409-30, 9416-18, 9416-21, 9709, 9709-19, 9720-19A, 9720-19B, 9724-01, 9766, 9983-FE

Reasons: Secured Area

Texas

Bldg. 1001

FNXC, Dyess AFB

Tye Co: Taylor TX 79563

Landholding Agency: Air Force

Property Number: 18200810008

Status: Unutilized

Reasons: Extensive deterioration

5 Bldgs.

Dyess AFB

Abilene TX 79607

Landholding Agency: Air Force

Property Number: 18200840005

Status: Unutilized

Directions: B-4003, 4120, B-4124, 4127, 4130

Reasons: Secured Area

4 Bldgs.

Dyess AFB

Abilene TX 79607

Landholding Agency: Air Force

Property Number: 18200840006

Status: Unutilized

Directions: 7225, 7226, 7227, 7313

Reasons: Secured Area

4 Bldgs.

Dyess AFB

Abilene TX 79607

Landholding Agency: Air Force

Property Number: 18200840007

Status: Unutilized

Directions: 8050, 8054, 8129, 8133

Reasons: Secured Area

5 Bldgs.

Dyess AFB

Abilene TX 79607

Landholding Agency: Air Force

Property Number: 18200840008

Status: Unutilized

Directions: B-9032, 9107, 9114, B-9140, 11900

Reasons: Secured Area

Bldg. B-4228

FNWZ Dyess AFB

Taylor TX 79607

Landholding Agency: Air Force

Property Number: 18200920009

Status: Unutilized

Reasons: Secured Area

Bldgs. B-3701, B-3702

FNWZ Dyess AFB

Pecos TX 79772

Landholding Agency: Air Force

Property Number: 18200920010

Status: Unutilized

Reasons: Secured Area

Bldgs. 1, 2, 3, 4

Tethered Aerostat Radar Site

Matagorda TX 77457

Landholding Agency: Air Force

Property Number: 18200920023

Status: Excess

Reasons: Secured Area

Bldg. 154

Goodfellow AFB

Goodfellow TX 76908

Landholding Agency: Air Force

Property Number: 18200920024

Status: Unutilized

Reasons: Secured Area

Bldg. 34008

Fort Hood

Bell TX 76544

Landholding Agency: Army

Property Number: 21200920020

Status: Excess

Reasons: Secured Area

Bldgs. 2430, 2431, 2629

Fort Bliss

El Paso TX 79916

Landholding Agency: Army

Property Number: 21200920021

Status: Unutilized

Reasons: Extensive deterioration

6 Bldgs.

Fort Bliss

El Paso TX 79916

Landholding Agency: Army

Property Number: 21200920022

Status: Unutilized

Directions: 2931, 2932, 2941, 2942, 2984, 2994

Reasons: Extensive deterioration

Bldg. 6960

Fort Bliss

El Paso TX 79916

Landholding Agency: Army

Property Number: 21200920023

Status: Unutilized

Reasons: Extensive deterioration

Bldgs. 42466, 42508

Johnson Creek/Caney Creek

Denison TX

Landholding Agency: COE

Property Number: 31200920019

Status: Unutilized

Reasons: Extensive deterioration

4 Bldgs.

Lake Texoma

42558, 42473, 42543, 42496 Denison TX

Landholding Agency: COE

Property Number: 31200920020

Status: Unutilized

Reasons: Extensive deterioration

6 Bldgs.

Pantex Plant

Amarillo TX 79121

Landholding Agency: Energy

Property Number: 41200920004

Status: Unutilized

Directions: 09-056, 11-R-016, 11-030, 12-023, 12-045, 12-047, 12-005G3

Reasons: Secured Area, Within 2000 ft. of flammable or explosive material

Virginia

12 Bldgs

Langley AFB

Langley VA 23665

Landholding Agency: Air Force

Property Number: 18200920012

Status: Unutilized

Directions: 35, 36, 903, 905, 1013, 1020, 1033, 1050, 1066, 1067, 1069, 1075

Reasons: Secured Area, Floodway

4 Bldgs.

Philpott Lake

16232, 16233, 16234, 16235

Bassett VA 24055

Landholding Agency: COE

Property Number: 31200920021

Status: Unutilized

Reasons: Extensive deterioration

6 Bldgs.

John H. Kerr Lake & Dam

Mecklenburg VA 23917

Landholding Agency: COE

Property Number: 31200920022

Status: Unutilized

Directions: ID# JHK 15776, 16754, 16810, 17051, 17845, 18244

Reasons: Extensive deterioration

Five Forks Visitor Station

Petersburg Natl Battlefield

Dinwiddie VA 23841

Landholding Agency: Interior

Property Number: 61200920014

Status: Excess

Reasons: Extensive deterioration

Tract 01-131

Appomattox Court House

National Historic Park

Appomattox VA 24522

Landholding Agency: Interior

Property Number: 61200920015

Status: Excess

Reasons: Extensive deterioration

Bldg. 1834

Naval Weapon Station

Yorktown VA 23691

Landholding Agency: Navy

Property Number: 77200920016

Status: Excess

Reasons: Secured Area, Extensive deterioration, Within 2000 ft. of flammable or explosive material

Washington

Madame Dorion Vault Toilet

McNary Lock & Dam

Walla Walla WA

Landholding Agency: COE

Property Number: 31200920023

Status: Unutilized

Reasons: Extensive deterioration

Chiawana Park Restroom

McNary Lock & Dam

Pasco WA 99301

Landholding Agency: COE

Property Number: 31200920024

Status: Unutilized

Reasons: Extensive deterioration

Bldg. 113

Naval Air Station

Whidbey Island WA 98278

Landholding Agency: Navy

Property Number: 77200920017

Status: Excess

Reasons: Secured Area

6 Bldgs.

Naval Air Station

Whidbey Island WA 98278

Landholding Agency: Navy

Property Number: 77200920018

Status: Unutilized

Directions: 175, 855, 2601, 2602, 2603, 2604

Reasons: Secured Area, Extensive deterioration

Bldg. 1013

Naval Base Kitsap

Bangor WA

Landholding Agency: Navy

Property Number: 77200920019

Status: Unutilized

Reasons: Extensive deterioration, Secured Area

West Virginia

Bldgs. 102, 106, 111

Air National Guard

Martinsburg WV 25405

Landholding Agency: Air Force

Property Number: 18200920013

Status: Unutilized

Reasons: Secured Area, Within 2000 ft. of flammable or explosive material

Wisconsin

Bldgs. 01000, D1147, 02162

Fort McCoy

Monroe WI 54656

Landholding Agency: Army

Property Number: 21200920024

Status: Unutilized

Reasons: Extensive deterioration

Wyoming

Bldg. 00012

Cheyenne RAP

Laramie WY 82009

Landholding Agency: Air Force

Property Number: 18200730013

Status: Unutilized

Reasons: Extensive deterioration, Secured Area, Within 2000 ft. of flammable or explosive material

California

Facilities 99001 thru 99006

Pt Arena AF Station

Mendocino CA 95468

Landholding Agency: Air Force

Property Number: 18200820028

Status: Excess

Reasons: Secured Area

7 Facilities

Pt. Arena Comm Annex

Mendocino CA 95468

Landholding Agency: Air Force

Property Number: 18200820031

Status: Excess

Directions: 99001, 99003, 99004, 99005, 99006, 99007, 99008

Reasons: Secured Area

Facilities 99002 thru 99014

Pt. Arena Water Sys Annex

Mendocino CA 95468

Landholding Agency: Air Force

Property Number: 18200820032

Status: Excess

Reasons: Secured Area

Florida

Defense Fuel Supply Point

Lynn Haven FL 32444

Landholding Agency: Air Force

Property Number: 18200740009

Status: Excess

Reasons: Floodway

New Jersey

Ludlam Beach Light Land

31st St.

Sea Isle NJ 08243

Landholding Agency: GSA

Property Number: 54200920009

Status: Surplus

GSA Number: 1-X-NJ-0665-AA

Reasons: Floodway

Texas

Rattlesnake ESS

FNWZ, Dyess AFB

Pecos TX 79772

Landholding Agency: Air Force

Property Number: 18200920011

Status: Unutilized

Reasons: Secured Area

24 acres

Tethered Aerostate Radar Site

Matagorda TX 77457

Landholding Agency: Air Force

Property Number: 18200920022

Status: Excess

Reasons: Secured Area

[FR Doc. E9-10443 Filed 5-7-09; 8:45 am]

BILLING CODE 4210-67-P